DEPARTMENT OF THE INTERIOR

Bureau of Land Management

[LLNV930000.L14300000.EU0000 241A; N-85116; 13-08807; MO#4500053892; TAS: 14X5260]

Notice of Realty Action: Modified Competitive Sealed-Bid Sale of Public Land at Schoolhouse Butte (N-85116), Humboldt County, NV

Correction

In notice document 2013-23339, appearing on pages 59055 through 59058 in the issue of Wednesday, September 25, 2013, make the following correction:

On page 59055, in the second column, on the fourth line below the table, “November 25, 2013” should read “November 26, 2013”.

[FR Doc. C1-2013-23339 Filed 10-2-13; 8:45 am]

BILLING CODE 1505-01-D